DEPARTMENT OF HEALTH AND HUMAN SERVICES

Administration for Children and Families

Submission for Office of Management and Budget Review; Fiscal Responsibility Act-Temporary Assistance for Needy Families Work Outcomes Measures (New Collection)

AGENCY: Office of Family Assistance, Administration for Children and Families, U.S. Department of Health and Human Services.

ACTION: Request for public comments.

SUMMARY: The Administration for Children and Families (ACF) is proposing to collect data for new Temporary Assistance for Needy Families (TANF) work outcomes measures required by the Fiscal Responsibility Act (FRA) of 2023. Information collections include the Work Outcomes of TANF Exiters Report, Secondary School Diploma or its Recognized Equivalent Rate, and the Supplemental Work Outcomes Report.

DATES: Comments due December 19, 2024. The Office of Management and Budget (OMB) must decide about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: This is a proposed new collection in response to the requirements of section 304 of the FRA, which requires states and territories to report data necessary to produce work outcome measures for work-eligible individuals who leave TANF. This collection was established in the interim final rule TANF Work Outcomes Measures, effective October 1, 2024. This collection includes three new forms: Work Outcomes of TANF Exiters Report, Secondary School Diploma or its Recognized Equivalent Rate, and Supplemental Work Outcomes Report.

The data and information from these reports will be used for program analysis and oversight, including the calculation of the indicators of performance required by the FRA: Employment Rate-2nd Quarter After Exit, Employment Retention Rate-4th Quarter After Exit, Median Earnings-2nd Quarter After Exit, and Secondary School Diploma or its Recognized Equivalent Attainment Rate.

For the Work Outcomes of TANF Exiters Report, states will be required to submit Social Security Numbers of all work-eligible individuals who exit TANF in each quarter on a quarterly basis.

For the Secondary School Diploma Attainment Rate, states will be asked to submit their calculated rate following the definitions and formula set by ACF. The report must include documentation of methodology and data sources.

The Supplemental Work Outcomes Report will be submitted annually by interested states. The report will include documentation of data sources and methodology to assess validity and support ongoing learning and identification of best practices.

Respondents: The 50 States of the U.S., the District of Columbia, Guam, Puerto Rico, and the Virgin Islands.

Annual Burden Estimates
Instrument | Total number of respondents | Annual number of responses per respondent | Average burden hours per response | Annual burden hours
Work Outcomes of TANF Exiters-Part 265 | 54 | 4 | 16 | 3,456
Secondary School Diploma or its Recognized Equivalent Rate-Part 265 | 54 | 1 | 100 | 5,400
Supplemental Work Outcomes Report | 54 | 1 | 30 | 1,620

Estimated Total Annual Burden Hours: 10,476.

Authority: 42 U.S.C. 603, 605, 607, 609, 611, and 613; Public Law 109-171. Public Law 118-5.

Mary C. Jones,
ACF/OPRE Certifying Officer.

[FR Doc. 2024-26874 Filed 11-18-24; 8:45 am]

BILLING CODE 4184-36-P